FEDERAL COMMUNICATIONS COMMISSION

Information Collection Being Reviewed by the Federal Communications Commission

AGENCY: Federal Communications Commission.

ACTION: Notice and request for comments.

SUMMARY: The Federal Communications Commission, as part of its continuing effort to reduce paperwork burden invites the general public and other Federal agencies to take this opportunity to comment on the following information collection(s), as required by the Paperwork Reduction Act (PRA) of 1995. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before July 12, 2011. If you anticipate that you will be submitting PRA comments, but find it difficult to do so within the period of time allowed by this notice, you should advise the FCC contact listed below as soon as possible.

ADDRESSES: Direct all PRA comments to the Federal Communications Commission. To submit your PRA comments by e-mail send them to: PRA@fcc.gov (mailto:PRA@fcc.gov).

FOR FURTHER INFORMATION CONTACT: For additional information, contact Cathy Williams at 202-418-2918 or via the Internet at Cathy.Wlliams@fcc.gov.

SUPPLEMENTARY INFORMATION: OMB Control Number: 3060-1080.

Title: Improving Public Safety Communications in the 800 MHz Band.

Form No.: N/A.

Type of Review: Extension of a currently approved collection.

Respondents: Business or other for-profit, not-for-profit institutions and state, local or tribal government.

Number of Respondents: 1,450 respondents; 3,848 responses.

Estimated Time per Response: 1 hour to 10 hours.

Frequency of Response: On occasion and quarterly reporting requirements and third party disclosure requirements.

Obligation to Respond: Required to obtain or retain benefits. Statutory authority for this information collection is contained in 47 U.S.C. 151, 154, 251-254, 303, and 332.

Total Annual Burden: 16,988 hours.

Total Annual Cost: $37,600.

Privacy Act Impact Assessment: N/A

Nature and Extent of Confidentiality: The Commission is not requesting that respondents submit confidential information to the FCC. Respondents may, however, request confidential treatment for information they believe to be confidential under 47 CFR 0.459 of the Commission's rules.

Needs and Uses: The Commission will submit this expiring information collection to the Office of Management and Budget (OMB) after this 60 day comment period in order to obtain the full three year clearance from them. The Commission is requesting OMB approval for an extension of this information collection. The Commission has adjusted its previous burden estimates by 11,288 hourly decrease and $24,800 decrease in annual costs.

The Commission has taken actions to immediately stem increasing instances of interference to 800 MHz public safety communications systems as well as address the underlying cause of 800 MHz interference. The PRA burden involves the exchange of information to facilitate incumbent relocation. This information exchange is necessary to effectuate band reconfiguration, i.e., to spectrally separate incompatible technologies, which is the underlying cause of interference to public safety. Overall the PRA burden is necessary to enable the Commission to determine the parties are acting in good faith resolving the 800 MHz public safety interference problem and to keep the 800 MHz transition moving efficiently.

Federal Communications Commission.
Marlene H. Dortch,
Secretary, Office of the Secretary, Office of Managing Director.

[FR Doc. 2011-11693 Filed 5-12-11; 8:45 am]

BILLING CODE 6712-01-P